DEPARTMENT OF DEFENSE

Office of the Secretary

[Docket ID DoD-2009-OS-0060]

Privacy Act of 1974; System of Records

AGENCY: Defense Contract Audit Agency, DoD.

ACTION: Notice to delete a System of Records.

SUMMARY: The Defense Contract Audit Agency (DCAA) proposes to delete a system of records notice from its existing inventory of record systems subject to the Privacy Act of 1974 (5 U.S.C. 552a), as amended.

DATES: This proposed action will be effective without further notice on June 1, 2009 unless comments are received which result in a contrary determination.

ADDRESSES: Send comments to Headquarters, Defense Contract Audit Agency, Information and Records Management Branch, 8725 John J. Kingman Road, Suite 2135, Fort Belvoir, VA 22060-6219.

FOR FURTHER INFORMATION CONTACT: Defense Contract Audit Agency Privacy Adviser at (703) 767-1022.

SUPPLEMENTARY INFORMATION: The Defense Contract Audit Agency (DCAA) systems of records notices subject to the Privacy Act of 1974 (5 U.S.C. 552a), as amended, have been published in the Federal Register and are available from the address above.

The Defense Contract Audit Agency proposes to delete a system of records notice from its inventory of record systems subject to the Privacy Act of 1974 (5 U.S.C. 552a), as amended. The proposed deletion is not within the purview of subsection (r) of the Privacy Act of 1974 (5 U.S.C. 552a), as amended, which requires the submission of new or altered systems reports.

Dated: April 24, 2009.
Morgan E. Frazier,
Alternate OSD Federal Register Liaison Officer, Department of Defense.

RDCAA 201.1

System name:

Individual Access Files (November 20, 1997, 62 FR 62003).

Reason: The Defense Contract Audit Agency no longer issues Auditor Credential Cards or Identification Cards to employees. Because these Identification Cards are no longer issued by the Agency, system notice RDCAA 201.1 is not needed and should be deleted.

[FR Doc. E9-9914 Filed 4-29-09; 8:45 am]

BILLING CODE 5001-06-P